ENVIRONMENTAL PROTECTION AGENCY

[AD-FRL-7004-7]

New Source Review 90-Day Review and Report to the President

AGENCY: Environmental Protection Agency (EPA)

ACTION: Notice of public meeting.

SUMMARY: The National Energy Policy Development Group, under the direction of Vice President Richard Cheney, has directed EPA, in consultation with the Secretary of Energy and other relevant agencies, to review the Environmental Protection Agency's New Source Review (NSR) program, including administrative interpretation and implementation, and report to the President within 90 days on the impact of the regulations on investment in new utility and refinery generation capacity, energy efficiency, and environmental protection. A background paper relating to this review was made available on June 22, 2001. The EPA's Office of Air and Radiation will hold four public meetings to provide interested persons an opportunity to provide comments and suggestions regarding the information in the background paper and other information relevant to this review.

DATES: The public meeting dates are:

1. July 10, 2001, 9:30 a.m. to 4:00 p.m., Cincinnati, OH.

2. July 12, 2001, 9:30 a.m. to 4:00 p.m., Sacramento, CA.

3. July 17, 2001, 9:30 a.m. to 4:00 p.m., Boston, MA.

4. July 20, 2001, 9:30 a.m. to 4:00 p.m., Baton Rouge, LA.

ADDRESSES: The public meeting locations are:

1. Cincinnati—Hyatt Regency (Regency Ballroom, Sections E and F), 151 West Fifth Street, Cincinnati, OH 45202.

2. Sacramento—Red Lion Hotel Sacramento (Martinique Ballroom), 1401 Arden Way, Sacramento, CA 95815.

3. Boston—DoubleTree Guest Suites Boston (Charles River Ballroom), 400 Soldiers Field Road, Boston, MA 02134.

4. Baton Rouge—Holiday Inn South (The Grand Ballroom), 9940 Airline Highway, Baton Rouge, LA 70816.

FOR FURTHER INFORMATION CONTACT: Persons who have questions about the NSR 90-Day review background paper or the review itself should contact Mr. Michael Ling, Office of the Director, Information Transfer and Program Integration Division (MD-12), U.S. Environmental Protection Agency, Research Triangle Park, N.C. 27711; Telephone Number: (919) 541-4729.

SUPPLEMENTARY INFORMATION: Documents relevant to this matter are available for inspection at the Air and Radiation Docket and Information Center, Attention: Docket No. A-2001-19, U.S. Environmental Protection Agency, 401 M Street SW., room M-1500, Washington, DC 20460, Telephone (202) 260-7548, between 8:00 a.m. and 5:30 p.m., Monday through Friday, excluding legal holidays. A reasonable fee may be charged for copying.

Persons planning to attend the hearing or wishing to present oral testimony should notify Mr. Lorence Pope, Office of Air Quality, Planning, and Standards, Division of Policy Analysis and Communications, MD-10, Research Triangle Park, NC 27711, Telephone (919) 541-0682, E-mail: pope.lorence@epa.gov. at least two (2) days in advance of each respective public meeting. Each meeting will be strictly limited to the subject matter covered in the NSR 90-Day Draft Study Report. Oral Testimony will be limited to five (5) minutes each. Any member of the public may file a written statement before or during the public meeting, or up until the close of the comment period for the background paper. Written statements (duplicate copies preferred) should be submitted to Docket No. A-2001-19 at the following address: Attention: Docket No. A-2001-19, U.S. Environmental Protection Agency, 401 M Street S.W., room M-1500, Washington, D.C. 20460, Telephone (202) 260-7548. Any updates to the meeting schedule will be posted on the World Wide Web at http://www.opa.gov/air/NSR-review.

Following each public meeting, a verbatim transcript of the hearing and written statements will be made available for copying during normal working hours at the Air and Radiation Docket Information Center, U.S. Environmental Protection Agency, 401 M Street S.W., room M-1500, Washington, DC 20460; Telephone (202) 260-7548, between 8:00 a.m. and 5:30 p.m., Monday through Friday, excluding legal holidays. A reasonable fee may be charged for copying.

Dated: June 22, 2001.
Linda Fisher,
Deputy Administrator.

[FR Doc. 01-16268 Filed 6-26-01; 8:45 am]

BILLING CODE 6560-50-P